DEPARTMENT OF HEALTH AND HUMAN SERVICES

National Institutes of Health

National Institute of Neurological Disorders and Stroke; Notice of Closed Meetings

Pursuant to section 10(d) of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Neurological Disorders and Stroke Special Emphasis; Panel BRAIN Initiative Exploratory Team BCP U01 Review.

Date: September 20, 2019.

Time: 8:00 a.m. to 6:00 p.m.

Agenda: To review and evaluate grant applications.

Place: Canopy by Hilton, 940 Rose Avenue, North Bethesda, MD 20852

Contact Person: LI JIA, Ph.D. Scientific Review Officer, Scientific Review Branch, Division of Extramural Research, NINDS/NIH, NSC, 6001 Executive Blvd., Suite 3208, MSC 9529 Bethesda, MD 20892, 301.496.9223, Jiali@Ninds.Nih.Gov.

Name of Committee: National Institute of Neurological Disorders and Stroke Special Emphasis; Panel Institutional Predoctoral Training Program in the Neurosciences (T32).

Date: October 7, 2019.

Time: 8:00 a.m. to 5:30 p.m.

Agenda: To review and evaluate grant applications.

Place: Canopy by Hilton, 940 Rose Avenue, North Bethesda, MD 20852.

Contact Person: Delany Torres, Ph.D., Scientific Review Officer, Scientific Review Branch, Division of Extramural Activities, NINDS, Neuroscience Center Building (NSC), 6001 Executive Blvd., Suite 3208 Bethesda, MD 20892, delany.torressalazar@nih.gov.

Name of Committee: National Institute of Neurological Disorders and Stroke Special Emphasis; Panel BRAIN Initiative U24 Review.

Date: October 9, 2019.

Time: 9:00 a.m. to 5:00 p.m.

Agenda: To review and evaluate grant applications.

Place: National Institutes of Health, Neuroscience Center Building (NSC), 6001 Executive Boulevard Rockville, MD 20852, (Virtual Meeting).

Contact Person: Jimok Kim, Ph.D., Scientific Review Officer, Scientific Review Branch, Division of Extramural Activities, NINDS, NIH, NCS, 6001 Executive Blvd., Suite 3226, MSC 9529, Bethesda 20892, 301-496-9223, jimok.kim@nih.gov.

Name of Committee: National Institute of Neurological Disorders and Stroke Initial Review; Group Neurological Sciences and Disorders B.

Date: October 24-25, 2019.

Time: 8:00 a.m. to 6:00 p.m.

Agenda: To review and evaluate grant applications.

Place: Residence Inn Pentagon City, 550 Army Navy Drive, Arlington, VA 22202.

Contact Person: Joel A Saydoff, Scientific Review Officer, Scientific Review Branch, Division of Extramural Activities, NINDS/NIH, NSC, 6001 Executive Blvd., Room 3205, MSC 9529, Bethesda, MD 20892, (301)-496-9223 joel.saydoff@nih.gov.

Name of Committee: National Institute of Neurological Disorders and Stroke Special Emphasis; Panel BRAIN K99 to promote Diversity.

Date: October 25, 2019.

Time: 11:00 a.m. to 5:30 p.m.

Agenda: To review and evaluate grant applications.

Place: SRB Office, 6001 Executive Boulevard, Bethesda, MD, (Virtual Meeting).

Contact Person: Delany Torres, Ph.D., Scientific Review Officer, Scientific Review Branch, Division of Extramural Activities, NINDS, Neuroscience Center Building (NSC), 6001 Executive Blvd., Suite 3208, Bethesda, MD 20892, delany.torressalazar@nih.gov.

Name of Committee: National Institute of Neurological Disorders and Stroke Special Emphasis; Panel NINDS & Translational T32.

Date: November 4-5, 2019.

Time: 8:30 a.m. to 4:00 p.m.

Agenda: To review and evaluate grant applications.

Place: Canopy by Hilton, 940 Rose Avenue, North Bethesda, MD 20852.

Contact Person: Deanna Lynn Adkins, Ph.D. Scientific Review Officer, Scientific Review Branch, NSC Building, Bethesda, MD 20892, 301-496-9223, deanna.adkins@nih.gov.

(Catalogue of Federal Domestic Assistance Program Nos. 93.853, Clinical Research Related to Neurological Disorders; 93.854, Biological Basis Research in the Neurosciences, National Institutes of Health, HHS)

Dated: September 5, 2019.
Sylvia L. Neal,
Program Analyst, Office of Federal Advisory Committee Policy.

[FR Doc. 2019-19614 Filed 9-10-19; 8:45 am]

BILLING CODE 4140-01-P